DEPARTMENT OF ENERGY

Federal Energy Regulatory Commission

Sunshine Act Meeting

The following notice of meeting is published pursuant to section 3(a) of the government in the Sunshine Act (Pub. L. 94-409), 5 U.S.C. 552b:

AGENCY: Federal Energy Regulatory Commission, DOE.

Date and Time: November 20, 2014, 10:00 a.m.

Place: Room 2C, 888 First Street NE., Washington, DC 20426.

Status: Open.

Matters To Be Considered: Agenda

* NOTE—Items listed on the agenda may be deleted without further notice.

Contact Person for More Information: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

1010TH—MEETING

REGULAR MEETING

November 20, 2014, 10:00 a.m.

Item No. | Docket No. | Company
ADMINISTRATIVE
A-1 | AD02-1-000 | Agency Business Matters.
A-2 | AD02-7-000 | Customer Matters, Reliability, Security and Market Operations.
A-3 | AD07-13-008 | 2014 Report on Enforcement.
ELECTRIC
E-1 | EC14-96-000 | Exelon Corporation and Pepco Holdings, Inc.
E-2 | AD13-7-000 | Centralized Capacity Markets in Regional Transmission Organizations and Independent System Operators.
| AD14-8-000 | Winter 2013-2014 Operations and Market Performance In Regional Transmission Organizations and Independent System Operators.
E-3 | AD14-16-000 | Kansas City Board of Public Utilities.
E-4 | RM14-15-000 | Physical Security Reliability Standard.
E-5 | OMITTED
E-6 | RM14-10-000 | Real Power Balancing Control Performance Reliability Standard.
E-7 | ER14-2936-000 | Sunbury Generation LP.
E-8 | ER14-2963-000 | California Independent System Operator Corporation.
E-9 | OA14-3-000 | FPL Energy Oklahoma Wind, LLC.
E-10 | RR14-5-000 | North American Electric Reliability Corporation.
E-11 | EL15-15-000 | PJM Interconnection, L.L.C.
GAS
G-1 | PL15-1-000 | Cost Recovery Mechanisms for Modernization of Natural Gas Facilities.
G-2 | RM14-21-000 | Natural Gas Act Pipeline Maps.
G-3 | RP12-318-003 | Texas Eastern Transmission, LP.
| RP12-318-005
G-4 | RP13-431-003 | Dominion Transmission, Inc.
G-5 | OR14-6-000 | BP Pipelines (Alaska) Inc., ConocoPhillips Transportation.
| OR14-6-001 | Alaska, Inc. and ExxonMobil Pipeline Company.
HYDRO
H-1 | P-12588-010 | Hydraco Power, Inc. and Warren David Long.
H-2 | P-12690-007 | Public Utility District No. 1 of Snohomish County, Washington.
| P-12690-009
| EL14-47-001
H-3 | P-13997-002 | Richard A. Glover, Jr.
H-4 | P-2210-248 | Appalachian Power Company.
CERTIFICATES
C-1 | RM12-11-002 | Revisions to Auxiliary Installations, Replacement Facilities, and Siting and Maintenance Regulations.
|  | A free webcast of this event is available through www.ferc.gov. Anyone with Internet access who desires to view this event can do so by navigating to www.ferc.gov's Calendar of Events and locating this event in the Calendar.
|  | The event will contain a link to its Webcast. The Capitol Connection provides technical support for the free webcasts. It also offers access to this event via television in the DC area and via phone bridge for a fee. If you have any questions, visit www.CapitolConnection.org or contact Danelle Springer or David Reininger at 703-993-3100.
|  | Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

Dated: November 13, 2014.
Kimberly D. Bose,
Secretary.

[FR Doc. 2014-27335 Filed 11-14-14; 11:15 am]

BILLING CODE 6717-01-P